DEPARTMENT OF LABOR

Employment and Training Administration

[TA-W-82,250]

YP Western Directory LLC Anaheim California Division Publishing Operations Group Including Workers Whose Unemployment Insurance (UI) Wages Are Paid Under YP Western Holdings LLC and/or YP Advertising LP and PBD Holdings, YP Subsidiary Holdings LLC, YP LLC, YP Holdings LLC, and Including On-Site Leased Workers From Zero Chaos, Anaheim, California; Amended Certification Regarding Eligibility To Apply for Worker Adjustment Assistance

In accordance with Section 223 of the Trade Act of 1974, as amended (“Act”), 19 U.S.C. § 2273, the Department of Labor issued a Certification of Eligibility to Apply for Worker Adjustment Assistance on January 28, 2013, applicable to workers of YP Western Directory LLC, Anaheim California Division, Publishing Operations Group, including workers whose Unemployment Insurance (UI) wages are paid under YP Western Holdings LLC and/or YP Advertising LP, YP Subsidiary Holdings LLC, YP LLC, YP Holdings LLC and including on-site leased workers from Zero Chaos, Anaheim, California. The workers are engaged in activities related to the supply of sales operations and publishing operations functions, and are separately identifiable from other business units within YP Western Directory LLC. Therefore, the certification is limited to only those workers within the Publishing Operations Group who are located at (or report to) Anaheim, California. The notice was published in the Federal Register on February 15, 2013 (78 FR 11228).

At the request of a company official, the Department reviewed the certification for workers of the subject firm. New information from the company shows that some workers separated from employment at the Anaheim, California location of YP Western Directory LLC, Anaheim California Division, Publishing Operations Group had their wages reported through a separate unemployment insurance (UI) tax account under the name PBD Holdings.

Accordingly, the Department is amending this certification to include workers of the subject firm whose unemployment insurance (UI) wages are reported through PBD Holdings.

The intent of the Department's certification is to include all workers of the subject firm who were adversely affected by a shift in the supply of sales operations and publishing operation functions to a foreign country.

The amended notice applicable to TA-W-82,250 is hereby issued as follows:

All workers of YP Western Directory LLC, Anaheim, California Division, Publishing Operations Group, including workers whose Unemployment Insurance (UI) wages are paid under YP Western Holdings LLC and/or YP Advertising LP, and PBD Holdings, YP Subsidiary Holdings LLC, YP LLC, YP Holdings LLC, and including on-site leased workers from Zero Chaos, Anaheim, California, who became totally or partially separated from employment on or after December 12, 2011, through January 28, 2015, and all workers in the group threatened with total or partial separation from employment on the date of certification through two years from the date of certification, are eligible to apply for adjustment assistance under Chapter 2 of Title II of the Trade Act of 1974, as amended.

Signed at Washington, DC, this 13th day of March, 2014.
Del Min Amy Chen,
Certifying Officer, Office of Trade Adjustment Assistance.

[FR Doc. 2014-06685 Filed 3-25-14; 8:45 am]

BILLING CODE 4510-FN-P